NUCLEAR REGULATORY COMMISSION

[NUREG-1852]

“Demonstrating the Feasibility and Reliability of Operator Manual Actions in Response to Fire, Draft Report for Comment”

AGENCY: Nuclear Regulatory Commission.

ACTION: Notice of availability of NUREG-1852, “Demonstrating the Feasibility and Reliability of Operator Manual Actions in Response to Fire, Draft Report For Comment,” and request for public comment.

SUMMARY: The Nuclear Regulatory Commission (NRC) is announcing the availability of and is seeking comments on NUREG-1852, “Demonstrating the Feasibility and Reliability of Operator Manual Actions in Response to Fire, Draft Report For Comment.”

DATES: Comments on this document should be submitted by November 6, 2006. Comments received after that date will be considered to the extent practical. To ensure efficient and complete comment resolution, comments should include references to the section, page, and line numbers of the document to which the comment applies, if possible.

ADDRESSES: Members of the public are invited and encouraged to submit written comments to Michael Lesar, Chief, Rulemaking, Directives, and Editing Branch, Office of Administration, Mail Stop T6-D59, U.S. Nuclear Regulatory Commission, Washington, DC 20555-0001. Hand-deliver comments attention to Michael Lesar, 11545 Rockville Pike, Rockville, MD, between 7:30 a.m. and 4:15 p.m. on Federal workdays. Comments may also be sent electronically to NRCREP@nrc.gov.

This document, NUREG-1852, is available at the Agencywide Documents Access and Management System (ADAMS) Public Electronic Reading Room on the Internet at the NRC Web site at http://www.nrc.gov/reading-rm/adams.html under Accession No. ML062350285; on the NRC Web site http://www.nrc.gov/reading-rm/doc-collections/nuregs/docs4comment.html; and at the NRC Public Document Room, 11555 Rockville Pike, Rockville, MD. The PDR's mailing address is USNRC PDR, Washington, DC 20555; telephone (301) 415-4737 or (800) 397-4205; fax (301) 415-3548; e-mail PDR@NRC.GOV.

FOR FURTHER INFORMATION, CONTACT: Erasmia Lois, Human Factors and Reliability Branch, Office of Nuclear Regulatory Research, telephone (301) 415-6560, e-mail exl1@nrc.gov.

SUPPLEMENTARY INFORMATION:

NUREG-1852, “Demonstrating the Feasibility and Reliability of Operator Manual Actions in Response to Fire, Draft Report For Comment,” September 2006

This NUREG provides criteria that licensees may use to demonstrate the feasibility and reliability of operator manual actions in response to fire. This NUREG does not clarify circumstances under which licensees may use operator manual actions in lieu of fire barriers. Licensees should refer to 10 CFR 50.48 and their license bases to determine applicable regulatory requirements with respect to operator manual actions in fire protection. Additional guidance on regulatory requirements pertaining to operator manual actions are provided in Regulatory Issue Summary 2006-10, “Regulatory Expectations with Appendix R, Paragraph III.G.2 Operator Manual Actions,” dated June 2006.

Section 9.5.1, “Fire Protection Program,” of the Standard Review Plan, NUREG-0800, will be revised to incorporate the guidance provided by RIS 2006-10 and NUREG-1852.

The NRC is seeking public comment in order to receive feedback from the widest range of interested parties and to ensure that all information relevant to developing this document is available to the NRC staff. This document is issued for comment only and is not intended for interim use. The NRC will review public comments received on the document, incorporate suggested changes as necessary, and issue the final NUREG-1852 for use.

Dated at Rockville, MD, this 11th day of September, 2006.
For the Nuclear Regulatory Commission.
Farouk Eltawila,
Director, Division of Risk Assessment and Special Projects, Office of Nuclear Regulatory Research.

[FR Doc. E6-16872 Filed 10-11-06; 8:45 am]

BILLING CODE 7590-01-P